DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: The Health Education Assistance Loan (HEAL).

Program: Refinancing Loan Application/Promissory Note (OMB No. 0915-0227)—Revision—The HEAL Program allows borrowers who graduated or separated from school to refinance all of their HEAL loans into one new HEAL loan, often at better rates and terms than their original HEAL loans. The HEAL program originally provided new federally-insured loans to students in schools of allopathic medicine, osteopathic medicine, dentistry, veterinary medicine, optometry, podiatric medicine, pharmacy, public health, graduate students in health administration or clinical psychology through September 30, 1998. Eligible lenders, such as banks, savings and loan associations, credit unions, pension funds, insurance companies, State agencies, and HEAL schools are insured by the Federal Government against loss due to the borrower's death, disability, bankruptcy, and default. The basic purpose of the program was to assure the availability of funds for loans to eligible students who needed to borrow money to pay for their educational costs.

The HEAL refinancing loan application/promissory note is being used by lenders to refinance borrower's original HEAL loans into one new refinanced loan. Due to the success of this form and desire to reduce application processing time many lenders have automated this form by taking pertinent application information over the telephone and sending the completed form to the borrower for their review and signature.

The estimate of burden for the refinancing loan application/promissory note form per year is as follows:

Type of respondent | Number of respondents | Responses per respondent | Total number of responses | Burden per responses (minutes) | Total burden hours
Applicants | 1,850 | 1 | 1,850 | 12 | 370
Lenders | 9 | 206 | 1,854 | 30 | 927
Total | 1,859 |  | 3,704 |  | 1,297

Written comments and recommendations concerning the proposed information collection should be sent within 30 days of this notice to: John Morrall, Human Resources and Housing Branch, Office of Management and Budget, New Executive Office Building, Room 10235, Washington, DC 20503.

Dated: August 2, 2001.
Jane M. Harrison,
Director, Division of Policy Review and Coordination.

[FR Doc. 01-19853 Filed 8-7-01; 8:45 am]

BILLING CODE 4165-15-P